DEPARTMENT OF EDUCATION

[CFDA No. 84.382B]

Asian American and Native American Pacific Islander-Serving Institutions Program

AGENCY: Office of Postsecondary Education, Department of Education.

ACTION: Notice of intent to fund down the fiscal year (FY) 2008 grant slate for the Asian American and Native American Pacific Islander-Serving Institutions (AANAPISI) Program.

SUMMARY: The Secretary intends to use the grant slate developed in FY 2008 for the AANAPISI Program authorized under Title III, Part F, Section 371 of the Higher Education Act of 1965, as amended (HEA), to make new grant awards in FY 2009 under Section 320 of the HEA. The Secretary takes this action because a number of high-quality applications remain on last year's grant slate. We expect to use an estimated $2,500,000 for new awards in FY 2009.

FOR FURTHER INFORMATION CONTACT: Darlene B. Collins, U.S. Department of Education, 1990 K Street, NW., room 6020, Washington, DC 20006-6450. Telephone: (202) 502-7576 or via Internet: darlene.collins@ed.gov.

If you use a telecommunications device for the deaf (TDD), call the Federal Relay Service (FRS), toll free, at 1-800-877-8339.

Individuals with disabilities can obtain this document in an accessible format (e.g., braille, large print, audiotape, or computer diskette) on request to the contact person listed under FOR FURTHER INFORMATION CONTACT.

SUPPLEMENTARY INFORMATION:

Background

On May 12, 2008, we published a notice in the Federal Register (73 FR 26970) inviting applications for new awards under Title III, Part F, Section 371 of the HEA for the AANAPISI Program.

In response to this notice, we received a number of high-quality applications for grants under the AANAPISI Program and made 6 new grant awards. However, there were applications that were awarded high scores by peer reviewers that did not receive funding in FY 2008 due to the level of appropriations.

The Department's FY 2009 appropriation for Section 371 of the HEA is sufficient to allow the Department to make continuation awards to the 6 current grantees. Rather than using program funds for a new peer review process for new grants under the Asian American and Native American Pacific Islander-Serving Institutions Program authorized under Section 320, the Department has decided to select grantees in FY 2009 from the existing slate of applicants. This slate was developed during the FY 2008 competition using the selection criteria, application requirements, and definitions referenced in the May 12, 2008 Federal Register notice.

Note: To be eligible to receive a grant pursuant to this notice, all applicants being considered for funding based on the funding slate for the FY 2008 competition must meet all statutory and regulatory, basic and programmatic, eligibility criteria and other requirements for this program.

Program Authority: 20 U.S.C. 1057-1059d.

Electronic Access to This Document

You may view this document, as well as all other documents of this Department published in the Federal Register, in text or Adobe Portable Document Format (PDF), on the Internet at the following site: www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Delegation of Authority: The Secretary of Education has delegated authority to Daniel T. Madzelan, Director, Forecasting and Policy Analysis for the Office of Postsecondary Education, to perform the functions of the Assistant Secretary for Postsecondary Education.

Dated: June 26, 2009.
Daniel T. Madzelan,
Director, Forecasting and Policy Analysis.

[FR Doc. E9-15597 Filed 6-30-09; 8:45 am]

BILLING CODE 4000-01-P